DEPARTMENT OF HEALTH AND HUMAN SERVICES

Centers for Disease Control and Prevention

ICD-10 Coordination and Maintenance (C&M) Committee Meeting National Center for Health Statistics (NCHS), Classifications and Public Health Data Standards Staff, Announces the Following Meeting

Name: ICD-10 Coordination and Maintenance (C&M) Committee meeting.

Time and Date: 9:00 a.m.-5:00 p.m., EST, March 7-8, 2017

Place: Centers for Medicare and Medicaid Services (CMS) Auditorium, 7500 Security Boulevard, Baltimore, Maryland 21244

Status: Open to the public, limited only by the space available. The meeting room accommodates approximately 240 people. We will be broadcasting the meeting live via Webcast at http://www.cms.gov/live/.

Security Considerations: Due to increased security requirements CMS has instituted stringent procedures for entrance into the building by non-government employees. Attendees will need to present valid government-issued picture identification, and sign-in at the security desk upon entering the building.

Attendees who wish to attend the March 7-8, 2017 ICD-10-CM C&M meeting must submit their name and organization by February 24, 2016 for inclusion on the visitor list. This visitor list will be maintained at the front desk of the CMS building and used by the guards to admit visitors to the meeting.

Participants who attended previous Coordination and Maintenance meetings will no longer be automatically added to the visitor list. You must request inclusion of your name prior to each meeting you wish attend.

Please register to attend the meeting on-line at: http://www.cms.hhs.gov/apps/events/. Please contact Mady Hue (410-786-4510 or Marilu.hue@cms.hhs.gov), for questions about the registration process.

Purpose: The ICD-10 Coordination and Maintenance (C&M) Committee is a public forum for the presentation of proposed modifications to the International Classification of Diseases, Tenth Revision, Clinical Modification and ICD-10 Procedure Coding System.

Matters for Discussion: Agenda items include:

March 7-8, 2017

ICD-10-PCS Topics:

Cerebral Embolic Protection During Transcatheter Aortic Valve Replacement

Renal Replacement Therapy

Magnetically Controlled Growth Rods

Oxidized Zirconium Polyethylene Implant for Hip and Knee Replacement

Endovascular Intracranial Thrombectomy

Procedures/Techniques

Radiotherapeutic Brain Implant

Combined Thoracic Arch Replacement and Thoracic Aorta Restriction

Occlusion of Left Atrial Appendage

Spinal Fusion with Radiolucent Interbody Fusion Device

Administration of ZINPLAVA (Bezlotoxumab)

Administration of VYXEOS

Administration of KTE-C19 (axicabtageneciloleucel) Congenital Anomaly Procedures

Resection of the Left Ventricular

Outflow Tract Obstruction and/or Subaortic Membrane(Stenosis)

Fontan Completion Procedure, Stage II

Alfieri Stitch

Valvuloplasty

Ligation of Pulmonary Trunk

Fluoroscopy of Pulmonary Trunk

Modified Blalock-Taussig Shunt

Release of Myocardial Bridge

Addenda and Key Updates

ICD-10-CM Diagnosis Topics:

Acute Appendicitis

Antenatal Screening

Asthma

Atrial Fibrillation (AF)

Cyclic Vomiting

Diverticular Disease of Intestine

Encounter for examination of eyes and vision with abnormal findings

Fetal Inflammatory Response Syndrome

Hepatic Encephalopathy (re-presentation)

Lacunar Infarction

Meibomian Gland Dysfunction

Neonatal Encephalopathy

Glasgow Coma Scale, Pediatric

Personal History of Mesothelioma and Secondary Mesothelioma

Post Endometrial Ablation Syndrome

Sickle Cell w/o Acute Chest Syndrome or Splenic Sequestration

Surgical Site Infection

Types of Myocardial Infarctions (MI)

ICD-10-CM Addendum

Agenda items are subject to change as priorities dictate.

Note: CMS and NCHS no longer provide paper copies of handouts for the meeting. Electronic copies of all meeting materials will be posted on the CMS and NCHS Web sites prior to the meeting at http://www.cms.hhs.gov/ICD9ProviderDiagnosticCodes/03_meetings.asp#TopOfPage and http://www.cdc.gov/nchs/icd/icd9cm_maintenance.htm.

Contact Persons for Additional Information: Donna Pickett, Medical Systems Administrator, Classifications and Public Health Data Standards Staff, NCHS, 3311 Toledo Road Hyattsville, Maryland 20782, email dfp4@cdc.gov, telephone 301-458-4434 (diagnosis); Mady Hue, Health Insurance Specialist, Division of Acute Care, CMS, 7500 Security Boulevard, Baltimore, Maryland, 21244, email marilu.hue@cms.hhs.gov, telephone 410-786-4510 (procedures).

The Director, Management Analysis and Services Office, has been delegated the authority to sign Federal Register notices pertaining to announcements of meetings and other committee management activities, for both the Centers for Disease Control and Prevention, and the Agency for Toxic Substances and Disease Registry.

Elaine L. Baker,
Director, Management Analysis and Services Office, Centers for Disease Control and Prevention.

[FR Doc. 2017-03627 Filed 2-23-17; 8:45 am]

BILLING CODE 4163-18-P